DEPARTMENT OF ENERGY

Request for Public Comment on Draft Consent-Based Siting Process for Consolidated Storage and Disposal Facilities for Spent Nuclear Fuel and High-Level Radioactive Wastes

AGENCY: Spent Fuel & Waste Disposition, Office of Nuclear Energy, Department of Energy.

ACTION: Notice of public comment period.

SUMMARY: The U.S. Department of Energy (DOE) is designing a consent-based siting process to establish an integrated waste management system to transport, store, and dispose of commercial spent nuclear fuel and high-level radioactive waste. In a consent-based siting approach, DOE will work with communities, tribal governments and states across the country that express interest in hosting federal consolidated interim storage facilities and disposal facilities for spent nuclear fuel and high-level radioactive waste as part of an integrated waste management system. The Department is seeking input on the Draft Consent-Based Siting Process for Consolidated Storage and Disposal Facilities for Spent Nuclear Fuel and High-Level Radioactive Wastes.

DATES: The 90-day public comment period begins January 12, 2017 and ends April 14, 2017.

ADDRESSES: You may submit comments on the draft document by any of the following methods:

Email: Responses may be provided by email to consentbasedsiting@hq.doe.gov. Please submit electronic comments in Microsoft Word, or PDF file format, and avoid the use of special characters or any form of encryption.

Mail: Responses may be provided by mail to the following address: U.S. Department of Energy, Office of Nuclear Energy, Draft Consent-Based Siting Process, 1000 Independence Ave. SW., Washington, DC 20585.

Fax: Responses may be faxed to 202-586-0544. Please include “Draft Consent-Based Siting Process” on the fax cover page.

Online: Responses will be accepted online at www.regulations.gov.

Data collected via the mechanisms listed above will not be protected from the public view in any way. Individual commentors' names and addresses (including email addresses) received as part of this Request for Public Comment are part of the public record. DOE plans to reproduce comment documents in their entirety, as appropriate, and to post all comment documents received in their entirety at energy.gov/consentbasedsiting following the close of the public comment period. Any person wishing to have his/her name, address, email address, or other identifying information withheld from the public record of comment documents must state this request prominently at the beginning of any comment document, or else no redactions will be made.

FOR FURTHER INFORMATION CONTACT: Requests for further information should be sent to Mr. Andrew Griffith via consentbasedsiting@hq.doe.gov or at U.S. Department of Energy, Office of Spent Fuel and Waste Disposition (NE-8), Office of Nuclear Energy, 1000 Independence Ave. SW., Washington, DC 20585. Telephone: (202) 586-3715.

SUPPLEMENTARY INFORMATION: General Information: Where can I obtain a copy of the Draft Consent-Based Siting Process for Consolidated Storage and Disposal Facilities for Spent Nuclear Fuel and High-Level Radioactive Wastes?

All documents in the docket are listed in the www.regulations.gov index. You may also download a copy of the document at energy.gov/consentbasedsiting.

Issued in Washington, DC, on January 9, 2017.
Melissa Bates,
Acting Team Lead for Office of Integrated Waste Management, Spent Fuel & Waste Disposition, Office of Nuclear Energy, Department of Energy.

[FR Doc. 2017-00670 Filed 1-12-17; 8:45 am]

BILLING CODE 6450-01-P